DEPARTMENT OF DEFENSE

Department of the Air Force

Air Force Space Command

AGENCY: Department of the Air Force, DoD.

ACTION: Amendment of the notice of intent to prepare an Environment Impact Statement for actions to sustain operability of Air Force Space Command early warning radar sites at Cape Cod Air Force Station (AFS), Massachusetts (MA); Beale Air Force Base (AFB), California (CA); and Clear AFS, Alaska (AK).

SUMMARY: The Air Force hereby amends its notice of intent to prepare an Environmental Impact Statement (EIS) for Service Life Extension Program (SLEP) action at the Early Warning Radars located at Cape Cod AFS, MA; Beale AFB, CA; and Clear AFS, AK, as published in 65 FR 4406, published 27 January 2000. The Air Force intends to prepare a Supplemental EIS to the 1979 EIS on the Operation of the PAVE PAWS Radar System at Otis AFB, MA. The Supplemental EIS will address concerns over the possible health effects from operation of the early warning radar at Cape Cod AFS. The Supplemental EIS will be prepared pursuant to section 1502.9(c) (2) of the Council on Environmental Quality regulations and will include, among other information, the results from ongoing studies and efforts that are addressing concerns related to radio frequency energy (RFE) from the radar. These studies and efforts include a National Research Council study; an RFE survey at Cape Cod, MA; an exposure assessment using the results of the RFE survey; a waveform characterization study; and a review conducted by the Armed Forces Epidemiology Board. The Air Force made the decision to prepare a Supplemental EIS following a review of the SLEP EIS process. The review was prompted by the decreasing availability of spare parts for the early warning radars and increasing concern that the radars were becoming unsupportable due to a lack of spare parts. Through the review process, which took into account comments received during public scoping meetings, the Air Force determined that public concerns centered around the possible health effects arising from operation of the radars, rather than from the proposed action of replacing outdated computer hardware and rehosting software. Replacing computer hardware and rehosting software will not change the amount or characteristics of the radio frequency energy being transmitted by the radar. Based on present calculations, which may change, the Air Force anticipates releasing a draft Supplemental EIS in 2004, approximately six months after the results from the last of the studies is scheduled to be published. The Air Force will prepare site-specific environmental assessments (EAs) for the SLEP actions of replacing computer hardware and rehosting software at each of the three early warning radar sites. Notices will be published in local newspapers when the EAs are available for public review.

FOR FURTHER INFORMATION CONTACT: Mr. Robert Novak, HQ AFSPC/CEVP, 150 Vandenberg Street, Suite 1105, Peterson Air Force Base, CO 80914-2370, Fax 719-554-3849.

Pamela D. Fitzgerald,
Air Force Federal Register Liaison Officer.

[FR Doc. 02-18363 Filed 7-19-02; 8:45 am]

BILLING CODE 5001-05-P